DEPARTMENT OF HEALTH AND HUMAN SERVICES

Substance Abuse and Mental Health Services Administration

Center for Substance Abuse Prevention; Notice of Meeting

Pursuant to Public Law 92-463, notice is hereby given that the Substance Abuse and Mental Health Services Administration (SAMHSA) Center for Substance Abuse Prevention (CSAP) National Advisory Council (NAC) will meet on August 5, 2009 from 2 p.m. to 4 p.m. via teleconference.

The meeting will include the review, discussion, and evaluation of grant applications reviewed by Initial Review Groups. Therefore, the meeting will be closed to the public as determined by the Administrator, SAMHSA, in accordance with Title 5 U.S.C. 552b(c) (6) and 5 U.S.C. App.2, Section 10(d).

Substantive program information, a summary of the meeting and a roster of Council members may be obtained as soon as possible after the meeting, either by accessing the SAMHSA Committee Web site at http://www.samhsa.gov/council/csap/csapnac.aspx, or by contacting the CSAP National Advisory Council's Acting Designated Federal Official, Ms. Joyce Weddington (see contact information below).

Committee Name: SAMHSA Center for Substance Abuse Prevention National Advisory Council.

Date/Time/Type: August 5, 2009, 2 p.m. to 4 p.m.: Closed.

Place: SAMHSA Building, 1 Choke Cherry Road, Conference Room 4-1058, Rockville, Maryland 20857.

Contact: Joyce Weddington, Acting Designated Federal Official, SAMHSA CSAP National Advisory Council, 1 Choke Cherry Road, Room 4-1065, Rockville, Maryland 20857, Telephone: (240) 276-2448, Fax: (240)276-2430, E-mail: joyce.weddington@samhsa.hhs.gov.

Dated: July 10, 2009.
Toian Vaughn,
Committee Management Officer, Substance Abuse and Mental Health Services Administration.

[FR Doc. E9-17143 Filed 7-17-09; 8:45 am]

BILLING CODE 4162-20-P